DEPARTMENT OF ENERGY

Electricity Advisory Committee

AGENCY: Office of Electricity Delivery and Energy Reliability, Department of Energy.

ACTION: Notice of open meeting.

SUMMARY: This notice announces a meeting of the Electricity Advisory Committee. The Federal Advisory Committee Act (Pub. L. 92-463, 86 Stat. 770) requires that public notice of these meetings be announced in the Federal Register.

DATES: Wednesday, September 24, 2014; 12:00 p.m.-5:45 p.m. Thursday, September 25, 2014; 8:00 a.m.-12:50 p.m.

ADDRESSES: National Rural Electric Cooperative Association, 4301 Wilson Boulevard, Arlington, Virginia 22203.

FOR FURTHER INFORMATION CONTACT: Matthew Rosenbaum, Office of Electricity Delivery and Energy Reliability, U.S. Department of Energy, Forrestal Building, Room 8G-017, 1000 Independence Avenue SW., Washington, DC 20585; Telephone: (202) 586-1060 or Email: matthew.rosenbaum@hq.doe.gov.

SUPPLEMENTARY INFORMATION: Purpose of the Committee: The Electricity Advisory Committee (EAC) was re-established in July 2010, in accordance with the provisions of the Federal Advisory Committee Act (FACA), as amended, 5 U.S.C., App. 2, to provide advice to the U.S. Department of Energy (DOE) in implementing the Energy Policy Act of 2005, executing the Energy Independence and Security Act of 2007, and modernizing the nation's electricity delivery infrastructure. The EAC is composed of individuals of diverse background selected for their technical expertise and experience, established records of distinguished professional service, and their knowledge of issues that pertain to electricity.

Tentative Agenda: The meeting of the EAC is expected to include an update on the programs and initiatives of DOE's Office of Electricity Delivery and Energy Reliability and the DOE Quadrennial Energy Review. The meeting is also expected to include a discussion of information and tool development to support consideration of future regulatory models, as well as a discussion of gas-electric integration. Additionally, the meeting is expected to include a discussion of the activities of the Smart Grid Subcommittee, the Energy Storage Subcommittee, the Power Delivery Subcommittee, and the Workforce Working Group.

Tentative Agenda: September 24, 2014

12:00 p.m.-1:00 p.m. Swearing in Ceremony for New EAC Members

12:00 p.m.-1:00 p.m. EAC Leadership Committee Meeting

12:00 p.m.-1:00 p.m. Registration

1:00 p.m.-1:15 p.m. Welcome, Introductions, Developments since the June 2014 Meeting

1:15 p.m.-1:45 p.m. Update on the U.S. Department of Energy (DOE), Office of Electricity Delivery and Energy Reliability's (OE) Programs and Initiatives

1:45 p.m.-2:15 p.m. Update on the DOE Quadrennial Energy Review

2:15 p.m.-2:30 p.m. Break

2:30 p.m.-3:50 p.m. Panel—Information and Tool Development to Support Consideration of Future Regulatory Models

3:50 p.m.-4:10 p.m. EAC Member Discussion of Regulatory Issues

4:10 p.m.-4:25 p.m. Break

4:25 p.m.-5:15 p.m. EAC Smart Grid Subcommittee Papers and Work Plan

5:15 p.m.-5:35 p.m. EAC Member Discussion of Smart Grid Subcommittee Plans

5:35 p.m.-5:45 p.m. Wrap-up and Adjourn Day One of September 2014 Meeting of the EAC

Tentative Agenda: September 25, 2014

8:00 a.m.-8:20 a.m. Ethics Briefing—For All EAC Members

8:20 a.m.-9:40 a.m. Panel—Gas-Electric Integration

9:40 a.m.-10:00 a.m. EAC Member Discussion of Gas-Electric Panel Topics

10:00 a.m.-10:15 a.m. Break

10:15 a.m.-11:05 a.m. EAC Energy Storage Subcommittee Activities and Plans

11:05 a.m.-11:25 a.m. EAC Member Discussion of Energy Storage Subcommittee Plans

11:25 a.m.-12:15 p.m. EAC Power Delivery Subcommittee Activities and Plans

12:15 p.m.-12:35 p.m. EAC Member Discussion of Power Delivery Subcommittee and Workforce Working Group Plans

12:35 p.m.-12:45 p.m. Public Comments (Must register at time of check in)

12:45 p.m.-12:50 p.m. Wrap-up and Adjourn September 2014 Meeting of the EAC

The meeting agenda may change to accommodate EAC business. For EAC agenda updates, see the EAC Web site at: http://energy.gov/oe/services/electricity-advisory-committee-eac.

Public Participation: The EAC welcomes the attendance of the public at its meetings. Individuals who wish to offer public comments at the EAC meeting may do so on Thursday, September 25, 2014, but must register at the registration table in advance. Approximately 10 minutes will be reserved for public comments. Time allotted per speaker will depend on the number who wish to speak but is not expected to exceed three minutes. Anyone who is not able to attend the meeting, or for whom the allotted public comments time is insufficient to address pertinent issues with the EAC, is invited to send a written statement to Mr. Matthew Rosenbaum. You may submit comments, identified by “Electricity Advisory Committee Open Meeting,” by any of the following methods:

• Mail/Hand Delivery/Courier: Matthew Rosenbaum, Office of Electricity Delivery and Energy Reliability, U.S. Department of Energy, Forrestal Building, Room 8G-017, 1000 Independence Avenue SW., Washington, DC 20585.

• Email: matthew.rosenbaum@hq.doe.gov. Include “Electricity Advisory Committee Open Meeting” in the subject line of the message.

• Federal eRulemaking Portal: http://www.regulations.gov. Follow the instructions for submitting comments. Instructions: All submissions received must include the agency name and identifier. All comments received will be posted without change to http://energy.gov/oe/services/electricity-advisory-committee-eac, including any personal information provided.

• Docket: For access to the docket, to read background documents or comments received, go to http://energy.gov/oe/services/electricity-advisory-committee-eac.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure.

DOE is responsible for the final determination concerning disclosure or nondisclosure of the information and for treating it in accordance with the DOE's Freedom of Information regulations (10 CFR 1004.11).

Note: Delivery of the U.S. Postal Service mail to DOE may be delayed by several weeks due to security screening. DOE, therefore, encourages those wishing to comment to submit comments electronically by email. If comments are submitted by regular mail, the Department requests that they be accompanied by a CD or diskette containing electronic files of the submission.

Minutes: The minutes of the EAC meeting will be posted on the EAC Web page at http://energy.gov/oe/services/electricity-advisory-committee-eac. They can also be obtained by contacting Mr. Matthew Rosenbaum at the address above.

Issued in Washington, DC, on August 27, 2014.
LaTanya R. Butler,
Deputy Committee Management Officer.

[FR Doc. 2014-20905 Filed 9-2-14; 8:45 am]

BILLING CODE 6450-01-P